DEPARTMENT OF COMMERCE

Foreign-Trade Zones Board

[Docket 16-2001]

Foreign-Trade Zone 87—Lake Charles, LA; Expansion of Manufacturing Authority—Subzone 87A; Conoco, Inc., Westlake, LA

An application has been submitted to the Foreign-Trade Zones Board (the Board) by the Lake Charles Harbor & Terminal District, grantee of FTZ 87, requesting authority on behalf of Conoco, Inc. (Conoco), to expand the scope of manufacturing activity conducted under zone procedures within Subzone 87A at the Conoco oil refinery complex in Westlake, Louisiana. The application was submitted pursuant to the provisions of the Foreign-Trade Zones Act, as amended (19 U.S.C. 81a-81u), and the regulations of the Board (15 CFR part 400). It was formally filed on April 9, 2001.

Subzone 87A was approved by the Board in 1988 and consists of four sites in Westlake, Louisiana: Site 1 (1,300 acres)—main refinery complex, 2200 Old Spanish Trail, Westlake; Site 2—Docks and Wharf; Site 3—Clifton Ridge Marine Terminal; Site 4—Pecan Grove Terminal. Authority was granted for the manufacture of fuel products and certain petrochemical feedstocks and refinery byproducts (Board Order 406, 53 FR 52455, 12/28/88).

The Conoco refinery (750 employees) is used to produce fuels and petrochemical feedstocks. The subzone, as originally approved, had a crude oil capacity of 150,000 barrels per day. The expansion request primarily involves new crude oil refining units within Site 1. Conoco, in partnership with Maraven S.A., is constructing facilities which will increase refining capacity and allow for the processing of heavier, sour crudes. They are now requesting authority to process approximately 250,000 barrels of crude oil per day under zone procedures. This proposal does not request any new manufacturing authority under FTZ procedures in terms of inputs or products, but it does involve a proposed increase in Conoco's level of production under zone procedures. Approximately 72 percent of the crude oil will be sourced from abroad.

Zone procedures would exempt the new refinery facilities from Customs duty payments on the foreign products used in its exports. On domestic sales, the company would be able to choose the Customs duty rates for certain petrochemical feedstocks (duty-free) by admitting foreign crude oil in non-privileged foreign status. The duty rates on crude oil range from 5.25 cents/barrel to 10.5 cents/barrel. The application indicates that the additional savings from zone procedures would help improve the refinery's international competitiveness.

In accordance with the Board's regulations, a member of the FTZ staff has been appointed examiner to investigate the application and report to the Board.

Public comment on the application is invited from interested parties. Submissions (original and 3 copies) shall be addressed to the Board's Executive Secretary at the address below. The closing period for their receipt is June 18, 2001. Rebuttal comments in response to material submitted during the foregoing period may be submitted during the subsequent 15-day period to July 2, 2001.

A copy of the application and the accompanying exhibits will be available for public inspection at each of the following locations:

U.S. Department of Commerce, Export Assistance Center, One Canal Place, 365 Canal Street, Suite 1170, New Orleans, LA 70130

Office of the Executive Secretary, Foreign-Trade Zones Board, Room 4008, U.S. Department of Commerce, 14th and Pennsylvania Avenue, NW., Washington, DC 20230

Dated: April 9, 2001.
Dennis Puccinelli,
Executive Secretary.

[FR Doc. 01-9637 Filed 4-17-01; 8:45 am]

BILLING CODE 3510-DS-P